DEPARTMENT OF LABOR

Employment and Training Administration

[TA-W-56,728]

Alcan Packaging, Including Leased Workers of HTSS, Allied Personnel Services, Aerotek, On Assignment (Lab Support), Barton Associates, Synerfac Technical Staffing, Remedy Intelligent Staffing, Accountemps, Office Team, Kelly Services, Manpower, and Centrix, Bethlehem, PA; Amended Certification Regarding Eligibility to Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on April 20, 2005, applicable to workers of Alcan Packaging, including leased workers of HTSS, Allied Personnel Services, Aerotek, On Assignment (Lab Support), Barton Associates, Synerfac Technical Staffing, Remedy Intelligent Staffing, Accountemps and Office Team, Bethlehem, Pennsylvania. The notice will be published soon in the Federal Register.

At the request of the State agency, the Department reviewed the certification for workers of the subject firm. New information shows that leased workers of Kelly Services, Manpower and Centrix were employed at the Bethlehem, Pennsylvania location of Alcan Packaging.

Based on these findings, the Department is amending this certification to include leased workers of Kelly Services, Manpower and Centrix working at Alcan Packaging, Bethlehem, Pennsylvania.

The intent of the Department's certification is to include all workers employed at Alcan Packaging Company who were adversely affected by a shift in production to Canada.

The amended notice applicable to TAW-56,728 is hereby issued as follows:

All workers of Alcan Packaging, Bethlehem, Pennsylvania, including on-site leased workers from HTSS, Aerotek, On Assignment (Lab Support), Barton Associated, Synerfac Technical Staffing, Remedy Intelligent Staffing, Accountemps, Office Team, Kelly Services, Manpower, and Centrix, who became totally or partially separated from employment on or after March 9, 2004, through September 20, 2007, are eligible to apply for adjustment assistance under Section 223 of the Trade Act of 1974, and are also eligible to apply for alternative trade adjustment assistance under Section 246 of the Trade Act of 1974.

Signed at Washington, DC, this 29th day of April, 2005.
Richard Church,
Certifying Officer, Division of Trade Adjustment Assistance.

[FR Doc. E5-2406 Filed 5-13-05; 8:45 am]

BILLING CODE 4510-30-P